DEPARTMENT OF THE INTERIOR

Bureau of Reclamation

[RR04084000, XXXR4081X1, RN.20350010.REG0000]

Colorado River Basin Salinity Control Advisory Council Notice of Public Meeting

AGENCY: Bureau of Reclamation, Interior.

ACTION: Notice of public meeting.

SUMMARY: The Bureau of Reclamation is publishing this notice to announce that a Federal Advisory Committee meeting of the Colorado River Basin Salinity Control Council (Council) will take place.

DATES: The meeting will be held virtually on Wednesday, October 27, 2021, from 2:30 p.m. to approximately 5:30 p.m. (MDT), and on Thursday, October 28, 2021, from 9:30 a.m. to 11:30 a.m. (MDT). Individuals wanting virtual access to the meeting should contact Melynda Roberts (see ADDRESSES) no later than October 22, 2021, to receive instructions. A public comment period will be held on both days.

ADDRESSES: Due to restrictions put in place to address the COVID-19 pandemic, the meeting will be held virtually. To access the meeting, please contact Melynda Roberts at (801) 524-3727; or by email at mroberts@usbr.gov. The public may submit comments up to 30 days after the meeting to the Bureau of Reclamation, Attn: UC-242, 125 South State Street, Room 8100, Salt Lake City, Utah 84138.

FOR FURTHER INFORMATION CONTACT: Melynda Roberts, telephone (801) 524-3727; email at mroberts@usbr.gov.

SUPPLEMENTARY INFORMATION: The meeting of the Council is being held under the provisions of the Federal Advisory Committee Act of 1972. The Council was established by the Colorado River Basin Salinity Control Act of 1974 (Pub. L. 93-320) (Act) to receive reports and advise Federal agencies on implementing the Act.

Purpose of the Meeting: The purpose of the meeting is to discuss the accomplishments of Federal agencies and make recommendations on future activities to control salinity.

Agenda: Council members will be briefed on the status of salinity control activities. The Bureau of Reclamation, Bureau of Land Management, U.S. Fish and Wildlife Service, and United States Geological Survey of the Department of the Interior; the Natural Resources Conservation Service of the Department of Agriculture; and the Environmental Protection Agency will each present a progress report and a schedule of activities on salinity control in the Colorado River Basin. The Council will discuss salinity control activities, the contents of the reports, and the Basin States Program created by Public Law 110-246, which amended the Act. A final agenda will be posted online at https://www.usbr.gov/uc/progact/salinity/ at least one week prior to the meeting.

Meeting Accessibility/Special Accommodations: The meeting is open to the public. Individuals wanting virtual access to the meeting or those requiring special accommodations should contact Melynda Roberts (see FOR FURTHER INFORMATION CONTACT) no later than October 22, 2021, to receive instructions.

Public Comments: The Council chairman will provide time for oral comments from members of the public at the meeting. Individuals wanting to make an oral comment should contact Melynda Roberts (see FOR FURTHER INFORMATION CONTACT) to be placed on the public comment list. Members of the public may also file written statements with the Council before, during, or up to 30 days after the meeting either in person or by mail. To allow full consideration of information by Council members at this meeting, written comments must be provided to Melynda Roberts (see ADDRESSES) by October 22, 2021.

Public Disclosure of Personal Information: Before including your address, phone number, email address, or other personal identifying information in your comment, you should be aware that your entire comment—including your personal identifying information—may be made publicly available at any time. While you can ask us in your comment to withhold your personal identifying information from public review, we cannot guarantee that we will be able to do so.

Authority: 5 U.S.C. appendix 2.

Wayne Pullan,
Regional Director, Upper Colorado Basin—Interior Region 7, Bureau of Reclamation.

[FR Doc. 2021-22248 Filed 10-12-21; 8:45 am]

BILLING CODE 4332-90-P